OFFICE OF PERSONNEL MANAGEMENT

5 CFR Part 630

Absence and Leave

CFR Correction

In Title 5 of the Code of Federal Regulations, Parts 1 to 699, revised as of January 1, 2004, on page 718, § 630.407 is corrected to read as follows:

§ 630.407 Sick leave used in computation of annuity.

Sick leave which is used in the computation of annuity for an employee shall be charged against his sick leave account and may not thereafter be used, transferred, or recredited.

[34 FR 17617, Oct. 31, 1969]

[FR Doc. 04-55530 Filed 12-23-04; 8:45 am]

BILLING CODE 1505-01-D